DEPARTMENT OF TRANSPORTATION

Maritime Administration

[USCG-2005-21232]

Beacon Port LLC Liquefied Natural Gas Deepwater Port License; Final Environmental Impact Statement

AGENCY: Maritime Administration, DOT.

ACTION: Notice of availability; request for comments.

SUMMARY: The U.S. Coast Guard (USCG) and the Maritime Administration (MARAD) announce the availability of the Final Environmental Impact Statement (FEIS) for the Beacon Port liquefied natural gas deepwater port license application. The application describes a project that would be located in the Gulf of Mexico, in lease block High Island Area 27, on the Outer Continental Shelf (OCS). The main terminal would be located approximately 45 miles south of High Island and 50 miles east-southeast of Galveston, Texas, with a riser platform in lease block West Cameron 167, approximately 27 miles south of Holly Beach and 29 miles south-southeast of Johnson's Bayou, Louisiana.

DATES: Material submitted in response to the request for comments must reach the Docket Management Facility on or before December 11, 2006.

On November 3, 2006 the applicant informed MARAD and the Coast Guard that they are withdrawing the Beacon Port LLC Liquefied Natural Gas Deepwater Port License application. Therefore, public hearings on the Deepwater Port License will not be held since a license will not be granted on the withdrawn application.

In their withdrawal notification the applicant indicated that they may determine at some future date to resubmit the Beacon Port license application (either modified or a new application for this location). In that event this Environmental Impact Statement may be used as the basis for any additional or updated NEPA documentation that would be necessary should the application be resubmitted. For that reason, comments relating to the FEIS are still being solicited.

ADDRESSES: Address docket submissions for USCG-2005-21232 to:

Docket Management Facility, U.S. Department of Transportation, 400 Seventh Street, SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov. The docket number is USCG-2005-21232.

FOR FURTHER INFORMATION CONTACT: Mr. Raymond Martin, U.S. Coast Guard, telephone: 202-372-1449, e-mail: Raymond.W.Martin@uscg.mil. If you have questions on viewing the docket, call Renee V. Wright, Program Manager, Docket Operations, telephone: 202-493-0402.

Request for Comments

We request public comments or other relevant information on the FEIS. You can submit material to the Docket Management Facility during the public comment period (see DATES). The Coast Guard and MARAD will consider all comments submitted during the public comment period. However, as we stated, no license will be issued on the withdrawn application that this EIS evaluates.

Submissions should include:

• Docket number USCG-2005-21232.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Supplementary Information/Background

Proposed Action

We published a notice of intent to prepare an EIS for the Proposed Beacon Port Deepwater Port at 71 FR 33916, June 10, 2005 and we announced the availability of the Draft EIS at 71 FR 11216, March 6, 2006. The proposed action requiring environmental review is the Federal licensing of the proposed Deepwater Port described in “Summary of the Application” below, which is reprinted from previous Federal Register notices in this docket.

Alternatives to the Proposed Action

The alternatives to licensing are: (1) Licensing with conditions (including conditions designed to mitigate environmental impact), and (2) denying the application, which for purposes of environmental review is the “no-action” alternative. These alternatives are more fully discussed in the FEIS.

Summary of the Application

The application described a Deepwater Port terminal to be located outside State waters in the Gulf of Mexico on the U.S. Outer Continental Shelf (OCS). Beacon Port would consist of a Main Terminal, Riser Platform, and connecting pipelines. The Main Terminal would be located approximately 50 miles (80 km) off the coast, east-southeast of Galveston, TX (approximately 45 miles [72 km] south of High Island, TX) in OCS lease block High Island Area 27 (HIA 27). The Riser Platform would be located approximately 29 miles off the coast south-southeast of Johnson's Bayou, LA (approximately 27 miles south of Holly Beach, LA) in OCS lease block West Cameron 167 (WC 167). Beacon Port would serve as an LNG receiving, storage, and regasification facility. The Main Terminal would be located in water depth of approximately 65 feet (20 m).

The Beacon Port Main Terminal would include: two concrete Gravity Based Structures (GBS) that would contain the LNG storage tanks, LNG carrier berthing provisions, LNG unloading arms, low and high pressure pumps, vaporizers, metering, utility systems, general facilities and accommodations. The Main Terminal would be able to receive LNG carriers with cargo capacities of up to 253,000 cubic meters. LNG carrier arrival frequency would be planned to match specified terminal gas delivery rates. The terminal would have storage capacity for up to 300,000 cubic meters of LNG (150,000 cubic meters per tank) on site.

Regasification of LNG would be accomplished through the use of open rack vaporizers (ORVs). In normal operation, four pumps would operate with a combined flow rate of approximately 167.5 million gallons of sea water per day (26,400 m³/hr). At peak operation, five pumps would operate with a combined total flow rate of approximately 203 million gallons of sea water per day (32,000 m³/hr).

Beacon Port proposed the installation of approximately 46 miles of offshore natural gas transmission pipeline on the OCS. A 42-inch diameter pipeline would connect the Main Terminal with the Riser Platform. Three additional pipelines (24-inch, 20-inch, and 12.75-inch diameter) were proposed to connect the Riser Platform with existing gas distribution pipelines in the WC 167 OCS block. The deepwater port would be designed to handle an average delivery of approximately 1.5 billion standard cubic feet per day (Bscfd) with a peak delivery of approximately 1.8 Bscfd.

By Order of the Maritime Administrator.
Dated: November 3, 2006.
Joel C. Richard,
Secretary, Maritime Administration.

[FR Doc. E6-19009 Filed 11-8-06; 8:45 am]

BILLING CODE 4910-81-P